DEPARTMENT OF TRANSPORTATION

Federal Aviation Administration

14 CFR Part 95

[Docket No. 31354; Amdt. No. 557]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, February 25, 2021.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on January 22, 2021.
Wade Terrell,
Aviation Safety, Manager, Flight Procedures & Airspace Group, Flight Technologies and Procedures Division.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 557 effective date February 25, 2021]
FROM | TO | MEA | MAA
§ 95.3000 Low Altitude RNAV Routes
§ 95.3215 RNAV Route T215 is Amended by Adding
HOLSTON MOUNTAIN, TN VORTAC | HILTO, VA FIX | 6700 | 17500
HILTO, VA FIX | FLENR, VA WP | 6500 | 17500
FLENR, VA WP | RISTE, KY WP | 6000 | 17500
* 4800—MCA RISTE, KY WP, SE BND
RISTE, KY WP | HAZARD, KY DME | 3800 | 17500
HAZARD, KY DME | HUGEN, KY WP | 3200 | 17500
HUGEN, KY WP | LEXINGTON, KY VOR/DME | 3200 | 17500
§ 95.3323 RNAV Route T323 is Amended by Adding
HIGGI, NC WP | KIDBE, TN WP | 7700 | 17500
* 5900—MCA KIDBE, TN WP, S BND
KIDBE, TN WP | ZADOT, TN WP | 4100 | 17500
* 5000—MCA ZADOT, TN WP, N BND
ZADOT, TN WP | WELLA, KY WP | 5100 | 17500
* WELLA, KY WP | HAZARD, KY DME | 3700 | 17500
* 3800—MCA WELLA, KY WP, S BND
§ 95.3338 RNAV Route T338 is Added to Read
DSIRE, NV WP | LNDIN, NV WP | 7200 | 17500
LNDIN, NV WP | WYLND, NV WP | 6600 | 17500
WYLND, NV WP | BOEGY, AZ WP | 7700 | 17500
§ 95.3354 RNAV Route T354 is Amended by Adding
BYZIN, MN WP | PARK RAPIDS, MN DME | 3600 | 17500
§ 95.3357 RNAV Route T357 is Added to Read
KONNG, NV WP | DICSA, NV FIX | 7600 | 17500
DICSA, NV FIX | WANDR, NV WP | 7600 | 17500
WANDR, NV WP | DSIRE, NV WP | 6900 | 17500
§ 95.3359 RNAV Route T359 is Added to Read
DANBY, CA FIX | WOPMA, CA FIX | 10500 | 17500
WOPMA, CA FIX | DICSA, NV FIX | 8300 | 17500
DICSA, NV FIX | RAATT, NV WP | 7600 | 17500
RAATT, NV WP | DSIRE, NV WP | 6300 | 17500
§ 95.3361 RNAV Route T361 is Added to Read
BOEGY, AZ WP | PUTTT, AZ WP | 7000 | 17500
PUTTT, AZ WP | DICSA, NV FIX | 7600 | 17500
DICSA, NV FIX | WANDR, NV WP | 7600 | 17500
WANDR, NV WP | LNDIN, NV WP | 6300 | 17500
LNDIN, NV WP | SHIEK, NV WP | 7700 | 17500
SHIEK, NV WP | MORMON MESA, NV VORTAC | 7600 | 17500
* 5900—MOCA
§ 95.3363 RNAV Route T363 is Added to Read
DICSA, NV FIX | PUTTT, AZ WP | 7600 | 17500
PUTTT, AZ WP | SHIEK, NV WP | 7600 | 17500
SHIEK, NV WP | MORMON MESA, NV VORTAC | 7600 | 17500
* 5900—MOCA
§ 95.4000 High Altitude RNAV Routes
§ 95.4013 RNAV Route Q13 is Amended by Adding
EL PASO, TX VORTAC | VERNO, AZ FIX | #* 24000 | 45000
* 18000—GNSS MEA
* DME/DME/IRU MEA
VERNO, AZ FIX | NABOB, AZ FIX | #*24000 | 45000
* 18000—GNSS MEA
* DME/DME/IRU MEA
NABOB, AZ FIX | DRAKE, AZ VORTAC | #* 24000 | 45000
* 18000—GNSS MEA
* DME/DME/IRU MEA
DRAKE, AZ VORTAC | WOTRO, AZ FIX | #* 24000 | 45000
* 18000—GNSS MEA
* DME/DME/IRU MEA
WOTRO, AZ FIX PRFUM, AZ FIX #* 24000 45000
* 18000—GNSS MEA
* DME/DME/IRU MEA
PRFUM, AZ FIX | HOUZZ, NV WP | #* 24000 | 45000
* 18000—GNSS MEA
* DME/DME/IRU MEA
HOUZZ, NV WP | FUULL, NV WP | #* 25000 | 45000
* 18000—GNSS MEA
* DME/DME/IRU MEA
FUULL, NV WP | SKANN, NV WP | #* 25000 | 45000
* 18000—GNSS MEA
* DME/DME/IRU MEA
SKANN, NV WP | LOMIA, NV WP | #* 25000 | 45000
* 18000—GNSS MEA
* DME/DME/IRU MEA
LOMIA, NV WP | RUFUS, CA WP | #* 25000 | 45000
* 18000—GNSS MEA
* DME/DME/IRU MEA
RUFUS, CA WP | PAWLI, OR WP | #* 25000 | 45000
* 18000—GNSS MEA
* DME/DME/IRU MEA
Is Amended to Delete
PRFUM, AZ FIX | PAWLI, OR WP | * 18000 | 45000
* GNSS REQUIRED
§ 95.4015 RNAV Route Q15 is Amended by Adding
DOVEE, NV | FIX SOTOO, NV WP | #* 24000 | 45000
* 18000—GNSS MEA
* DME/DME/IRU MEA
SOTOO, NV WP | HOUZZ, NV WP | #* 24000 | 45000
* 18000—GNSS MEA
* DME/DME/IRU MEA
HOUZZ, NV WP | FUULL, NV WP | #* 25000 | 45000
* 18000—GNSS MEA
* DME/DME/IRU MEA
FUULL, NV WP | SKANN, NV WP | #* 25000 | 45000
* 18000—GNSS MEA
* DME/DME/IRU MEA
SKANN, NV WP | LOMIA, NV WP | #* 25000 | 45000
* 18000—GNSS MEA
* DME/DME/IRU MEA
Is Amended to Delete
DOVEE, NV WP | BIKKR, NV WP | * 18000 | 45000
* GNSS REQUIRED
BIKKR, CA WP | KENNO, NV WP | * 18000 | 45000
* GNSS REQUIRED
KENNO, NV WP | RUSME, NV WP | * 18000 | 45000
* GNSS REQUIRED
RUSME, NV WP | LOMIA, NV WP | * 18000 | 45000
* GNSS REQUIRED
Is Amended to Read in Part
CHILY, AZ FIX | DOVEE, NV FIX | #* 24000 | 45000
* 18000—GNSS MEA
* DME/DME/IRU MEA
§ 95.4162 RNAV Route Q162 is Amended to Read in Part
NTELL, CA WP | CABAB, CA WP | #* 24000 | 45000
* 18000—GNSS MEA
* DME/DME/IRU MEA
§ 95.4164 RNAV Route Q164 is Amended to Read in Part
NTELL, CA WP | CABAB, CA WP | #* 24000 | 45000
* 18000—GNSS MEA
* DME/DME/IRU MEA
§ 95.4174 RNAV Route Q174 is Added to Read
NTELL, CA WP | CABAB, CA WP | #* 24000 | 45000
* 18000—GNSS MEA
* DME/DME/IRU MEA
CABAB, CA WP | TTMSN, CA WP | #* 24000 | 45000
* 18000—GNSS MEA
* DME/DME/IRU MEA
TTMSN, CA WP | SKANN, NV WP | #* 24000 | 45000
* 18000—GNSS MEA
* DME/DME/IRU MEA
SKANN, NV WP | FLCHR, NV WP | #* 24000 | 45000
* 18000—GNSS MEA
* DME/DME/IRU MEA

FROM | TO | MEA
§ 95.6001 Victor Routes—U.S.
§ 95.6003 VOR Federal Airway V3 is Amended to Read in Part
OWENS, SC FIX | * VANCE, SC VORTAC | 2000
* 13000—MCA VANCE, SC VORTAC, NE BND
VANCE, SC VORTAC | * FLORENCE, SC VORTAC | #** 13000
* 12000—MCA FLORENCE, SC VORTAC, SW BND
** 2000—GNSS MEA
* #VANCE R-047 UNUSABLE, USE FLORENCE R-224
§ 95.6006 VOR Federal Airway V6 is Amended to Delete
CLARION, PA VOR/DME | PHILIPSBURG, PA VORTAC | 4000
§ 95.6010 VOR Federal Airway V10 is Amended to Read in Part
TALLS, PA FIX | * REVLOC, PA VOR/DME
| SE BND | 4200
| NW BND | 5000
* 5000—MCA REVLOC, PA VOR/DME, SE BND
§ 95.6015 VOR Federal Airway V15 is Amended to Delete
SIOUX CITY, IA VORTAC | SIOUX FALLS, SD VORTAC | 3400
SIOUX FALLS, SD VORTAC | HURON, SD VOR/DME | 3700
HURON, SD VOR/DME | ABERDEEN, SD VOR/DME | 3000
§ 95.6021 VOR Federal Airway V21 is Amended to Read in Part
BULGY, CA FIX | * HECTOR, CA VORTAC | ** 9000
* 8200—MCA HECTOR, CA VORTAC, NE BND
** 7000—MOCA
HECTOR, CA VORTAC | * WHIGG, CA FIX | 10500
* 12000—MRA
WHIGG, CA FIX | BOULDER CITY, NV VORTAC | 10500
§ 95.6026 VOR Federal Airway V26 is Amended to Delete
PIERRE, SD VORTAC | HURON, SD VOR/DME | 4000
HURON, SD VOR/DME | OBITT, SD FIX | * 5000
* 4000—GNSS MEA
OBITT, SD FIX | GHENT, MN WP | * 6000
* 3400—MOCA
* 4000—GNSS MEA
GHENT, MN WP | REDWOOD FALLS, MN VOR/DME | * 5000
* 4000—GNSS MEA
§ 95.6030 VOR Federal Airway V30 is Amended to Delete
CLARION, PA VOR/DME | PHILIPSBURG, PA VORTAC | 4000
§ 95.6047 VOR Federal Airway V47 is Amended to Read in Part
CINCINNATI, KY VORTAC | ROSEWOOD, OH VORTAC | 3100
§ 95.6053 VOR Federal Airway V53 is Amended to Delete
HOLSTON MOUNTAIN, TN VORTAC | HAZARD, KY VOR/DME | 6400
HAZARD, KY VOR/DME | * IRVIN, KY FIX | 4000
* 6000—MRA
IRVIN, KY FIX | LEXINGTON, KY VOR/DME | 4000
§ 95.6055 VOR Federal Airway V55 is Amended to Delete
PARK RAPIDS, MN VOR/DME | BETRA, MN FIX | * 4500
* 3200—MOCA
* 3600—GNSS MEA
BETRA, MN FIX | GRAND FORKS, ND VOR/DME | * 3300
* 2400—MOCA
§ 95.6058 VOR Federal Airway V58 is Amended to Delete
GRACE, PA FIX | * EARED, PA FIX | 3400
* 4000—MRA
EARED, PA FIX | PHILIPSBURG, PA VORTAC | * 6000
* 4100—MOCA
* 5000—GNSS MEA
§ 95.6077 VOR Federal Airway V77 is Amended to Read in Part
FLECH, OK FIX | * NEADS, OK FIX | ** 3800
* 3800—MCA NEADS, OK FIX, S BND
* 5400—MRA
** 3000—MOCA
§ 95.6078 VOR Federal Airway V78 is Amended to Delete
HURON, SD VOR/DME | WATERTOWN, SD VORTAC | * 3700
* 3100—MOCA
§ 95.6100 VOR Federal Airway V100 is Amended to Delete
O'NEILL, NE VORTAC | SIOUX CITY, IA VORTAC | 3700
SIOUX CITY, IA VORTAC | FORT DODGE, IA VORTAC | 3000
§ 95.6115 VOR Federal Airway V115 is Amended to Delete
VOLUNTEER, TN VORTAC | MALIN, TN FIX | 4500
MALIN, TN FIX | ROSAR, KY FIX | 5000
ROSAR, KY FIX | HAZARD, KY VOR/DME | 5200
HAZARD, KY VOR/DME | * CHARLESTON, WV VOR/DME | ** 6000
* 4800—MCA CHARLESTON, WV VOR/DME, SW BND
** 4000—GNSS MEA
Is Amended to Read in Part
VULCAN, AL VORTAC | CHOO CHOO, TN VORTAC | 4000
§ 95.6119 VOR Federal Airway V119 is Amended to Delete
INDIAN HEAD, PA VORTAC | QUARY, PA FIX | * 5000
* 4500—MOCA
QUARY, PA FIX | TALLS, PA FIX | 4000
TALLS, PA FIX | CLARION, PA VOR/DME | * 3700
* 3200—MOCA
§ 95.6138 VOR Federal Airway V138 is Amended to Read in Part
OMAHA, IA VORTAC | FORT DODGE, IA VORTAC | * 4500
* 3000—MOCA
* 3000—GNSS MEA
§ 95.6140 VOR Federal Airway V140 is Amended to Delete
LONDON, KY VOR/DME | HAZARD, KY VOR/DME | 4000
HAZARD, KY VOR/DME | STACY, VA FIX | * 5000
* 4200—MOCA
* 4200—GNSS MEA
STACY, VA FIX | KENYA, WV FIX
| W BND 5000
| E BND 5400
KENYA, WV FIX | * BLUEFIELD, WV VOR/DME | 5400
* 7000—MCA BLUEFIELD, WV VOR/DME, E BND
§ 95.6141 VOR Federal Airway V141 is Amended to Delete
MANCHESTER, NH VOR/DME | CONCORD, NH VOR/DME | * 2900
* 2100—MOCA
CONCORD, NH VOR/DME | KELLI, NH FIX | 5000
KELLI, NH FIX | LEBANON, NH VOR/DME | * 4000
* 3600—MOCA
LEBANON, NH VOR/DME | RUCKY, VT FIX | * 6000
* 4000—MOCA
RUCKY, VT FIX | * BURLINGTON, VT VOR/DME | 6300
* 4000—MCA BURLINGTON, VT VOR/DME, SE BND
BURLINGTON, VT VOR/DME | BUGSY, NY FIX | * 9000
* 5100—MOCA
* 5500—GNSS MEA
BUGSY, NY FIX | MASSENA, NY VORTAC | * 9000
* 4000—MOCA
* 4000—GNSS MEA
§ 95.6151 VOR Federal Airway V151 is Amended to Delete
GAILS, MA FIX | PROVIDENCE, RI VOR/DME | * 3000
* 2000—GNSS MEA
PROVIDENCE, RI VOR/DME | PUTNAM, CT VOR/DME | * 3000
* 2100—MOCA
PUTNAM, CT VOR/DME | GARDNER, MA VOR/DME | 3000
GARDNER, MA VOR/DME | KEENE, NH VORTAC | 3600
KEENE, NH VORTAC | STRUM, NH FIX | 3600
STRUM, NH FIX | UNKER, NH WP | 6000
UNKER, NH WP | MCADM, NH WP | 4500
MCADM, NH WP | LEBANON, NH VOR/DME | * 4000
* 3500—MOCA
LEBANON, NH VOR/DME | ZIECH, VT WP | * 4000
* 3600—MOCA
ZIECH, VT WP | MONTPELIER, VT VOR/DME | * 4400
* 3900—MOCA
MONTPELIER, VT VOR/DME | * BURLINGTON, VT VOR/DME | 6300
* 5000—MCA BURLINGTON, VT VOR/DME, SE BND
§ 95.6157 VOR Federal Airway V157 is Amended to Read in Part
ALLENDALE, SC VOR | * VANCE, SC VORTAC | ** 6000
* 13000—MCA VANCE, SC VORTAC, NE BND
** 2000—GNSS MEA
VANCE, SC VORTAC | * FLORENCE, SC VORTAC | #** 13000
* 12000—MCA FLORENCE, SC VORTAC, SW BND
** 2000—GNSS MEA
#VANCE R-047 UNUSABLE, USE FLORENCE R-224
§ 95.6159 VOR Federal Airway V15 is Amended to Delete
OMAHA, IA VORTAC | SIOUX CITY, IA VORTAC | 3000
SIOUX CITY, IA VORTAC | OBERT, NE WP | * 4500
* 2700—MOCA
OBERT, NE WP | YANKTON, SD VOR/DME | 3400
YANKTON, SD VOR/DME | MITCHELL, SD VOR/DME | 3300
MITCHELL, SD VOR/DME | HURON, SD VOR/DME | 3000
§ 95.6175 VOR Federal Airway V175 is Amended to Delete
DES MOINES, IA VORTAC | * LINDE, IA FIX | 3500
* 5500—MRA
LINDE, IA FIX | MADUP, IA FIX | * 5500
* 3000—MOCA
MADUP, IA FIX | * WELTE, IA FIX | 5500
* 3900—MRA
WELTE, IA FIX | SIOUX CITY, IA VORTAC
| W BND | 3000
| E BND | 5500
SIOUX CITY, IA VORTAC | OYENS, IA WP | 4400
OYENS, IA WP | WORTHINGTON, MN VOR/DME | * 6000
* 3600—GNSS MEA
ALEXANDRIA, MN VOR/DME | PARK RAPIDS, MN VOR/DME | 3300
PARK RAPIDS, MN VOR/DME | BLUOX, MN FIX
| S BND | 3500
| NW BND | 7000
BLUOX, MN FIX | ROSEAU, MN VOR/DME | * 7000
* 2800—MOCA
* 3300—GNSS MEA
ROSEAU, MN VOR/DME | U.S. CANADIAN BORDER | * 3600
* 2600—MOCA
§ 95.6178 VOR Federal Airway V178 is Amended to Read in Part
LEXINGTON, KY VOR/DME | TRENT, KY FIX
| W BND | 3400
| E BND | 8000
§ 95.6187 VOR Federal Airway V187 is Amended to Delete
THICK, WA FIX | MOUNT, WA FIX | 10000
MOUNT, WA FIX | ORTIN, WA WP
| W BND | 8000
| E BND | 10000
ORTIN, WA WP | MCCHORD, WA TACAN | 6000
MCCHORD, WA TACAN | OLYMPIA, WA VORTAC | 6000
§ 95.6219 VOR Federal Airway V219 is Amended to Delete
NORFOLK, NE VOR/DME | SIOUX CITY, IA VORTAC | 3600
§ 95.6226 VOR Federal Airway V226 is Amended to Delete
GRACE, PA FIX | CLARION, PA VOR/DME | 3400
CLARION, PA VOR/DME | KEATING, PA VORTAC | 4000
§ 95.6229 VOR Federal Airway V229 is Amended to Read in Part
KEENE, NH VORTAC | JAMMA, VT FIX | 4500
JAMMA, VT FIX | MUDDI, VT FIX | 6400
§ 95.6283 VOR Federal Airway V283 is Amended to Read in Part
BULGY, CA FIX | * HECTOR, CA VORTAC | ** 9000
* 8200—MCA HECTOR, CA VORTAC, NE BND
** 7000—MOCA
HECTOR, CA VORTAC | * WHIGG, CA FIX | 10500
* 12000—MRA
WHIGG, CA FIX | BOULDER CITY, NV VORTAC | 10500
§ 95.6307 VOR Federal Airway V307 is Amended to Delete
OMAHA, IA VORTAC | SIOUX CITY, IA VORTAC | 3000
§ 95.6310 VOR Federal Airway V310 is Amended to Read in Part
LONDON, KY VOR/DME | ROSAR, KY FIX
| SE BND | * 6900
| NW BND | * 5500
* 4100—MOCA
§ 95.6321 VOR Federal Airway V321 is Amended to Read in Part
GADSDEN, AL VOR/DME | ALBER, AL FIX | 3100
ALBER, AL FIX | ROCKET, AL VORTAC | 3700
§ 95.6339 VOR Federal Airway V339 is Amended to Delete
HAZARD, KY VOR/DME | TRENT, KY FIX | 4000
TRENT, KY FIX | FALMOUTH, KY VOR/DME | 3500
§ 95.6496 VOR Federal Airway V496 is Amended to Delete
LEBANON, NH VOR/DME | GRUMP, NH FIX | 5000
GRUMP, NH FIX | NEETS, NH FIX | 4000
NEETS, NH FIX | KENNEBUNK, ME VOR/DME | 3600
§ 95.6542 VOR Federal Airway V542 is Amended to Delete
ROCKDALE, NY VOR/DME | ALBANY, NY VORTAC | 4000
ALBANY, NY VORTAC | CAMBRIDGE, NY VOR/DME | #* 4000
* 3000—MOCA
#ALB R-067 UNUSABLE
CAMBRIDGE, NY VOR/DME | * JAMMA, VT FIX | 6200
* 5000—MCA JAMMA, VT FIX, W BND
JAMMA, VT FIX | LEBANON, NH VOR/DME | 5000
§ 95.6587 VOR Federal Airway V587 is Amended to Read in Part
DAGGETT, CA VORTAC | * WHIGG, CA FIX | 10500
* 12000—MRA
WHIGG, CA FIX | BOULDER CITY, NV VORTAC | 10500
§ 95.6481 Alaska VOR Federal Airway V481 is Amended to Read in Part
* JOHNSTONE POINT, AK VOR/DME | FIDAL, AK FIX | 14000
* 14000—MCA JOHNSTONE POINT, AK VOR/DME, N BND
FIDAL, AK FIX | ROBES, AK FIX | 14000
ROBES, AK FIX | * KLUNG, AK FIX | 14000
* 11200—MCA KLUNG, AK FIX, S BND
KLUNG, AK FIX | GULKANA, AK VOR/DME
| S BND | 10000
| N BND | 7000

FROM | TO | MEA | MAA
§ 95.7001 Jet Routes
§ 95.7089 Jet Route J89 is Amended to Read in Part
BADGER, WI VOR/DME | DULUTH, MN VORTAC | #18000 | 45000
#BADGER R-322 UNUSABLE

AIRWAY SEGMENT: FROM | AIRWAY SEGMENT: TO | CHANGEOVER POINTS: DISTANCE | CHANGEOVER POINTS: FROM
§ 95.8003 VOR Federal Airway Changeover Point V3 is Amended to Delete Changeover Point
VANCE, SC VORTAC | FLORENCE, SC VORTAC | 21 | VANCE.
V55 is Amended to Delete Changeover Point
PARK RAPIDS, MN VOR/DME | GRAND FORKS, ND VOR/DME | 64 | PARK RAPIDS.
V115 is Amended to Delete Changeover Point
HAZARD, KY VORTAC | CHARLESTON, SC VOR/DME | 40 | HAZARD.

[FR Doc. 2021-01832 Filed 1-27-21; 8:45 am]

BILLING CODE 4910-13-P